DEPARTMENT OF ENERGY

10 CFR Part 430

[Docket No. EERE-2013-BT-DET-0034]

RIN 1904-AD03

Energy Conservation Program: Proposed Determination of Computer Servers as a Covered Consumer Product

AGENCY: Office of Energy Efficiency and Renewable Energy, Department of Energy.

ACTION: Proposed determination; withdrawal.

SUMMARY: The U.S. Department of Energy (DOE) withdraws for further consideration a proposed determination that computer servers (servers) qualify as a covered product under Part A of Title III of the Energy Policy and Conservation Act (EPCA), as amended.

DATES: The proposed determination is withdrawn February 28, 2014.

FOR FURTHER INFORMATION CONTACT:

Mr. Jeremy Dommu, U.S. Department of Energy, Office of Energy Efficiency and Renewable Energy, Building Technologies Office, EE-5B, 1000 Independence Avenue SW., Washington, DC 20585-0121. Telephone: (202) 586-9870. Email: DOE_computer_standards@EE.Doe.Gov.

Ms. Celia Sher, U.S. Department of Energy, Office of the General Counsel, GC-71, 1000 Independence Avenue SW., Washington, DC 20585-0121. Telephone: (202) 287-6122. Email: Celia.Sher@hq.doe.gov.

SUPPLEMENTARY INFORMATION:

I. Authority

Title III of EPCA (42 U.S.C. 6291, et seq.) sets forth a variety of provisions designed to improve energy efficiency. Part A of Title III of EPCA (42 U.S.C. 6291-6309) established the “Energy Conservation Program for Consumer Products Other Than Automobiles,” which covers consumer products and certain commercial products (hereafter referred to as “covered products”).¹ In addition to specifying a list of covered residential and commercial products, EPCA contains provisions that enable the Secretary of Energy to classify additional types of consumer products as covered products. (42 U.S.C. 6292(a)(20)) DOE may prescribe test procedures for any product it classifies as a “covered product.” (42 U.S.C. 6293(b))

¹ For editorial reasons, upon codification in the U.S. code, Part B was re-designated Part A.

II. Discussion

On July 12, 2013, DOE published a notice of proposed determination (Notice) that tentatively determined that servers qualify as a covered product. 78 FR 41868. In light of public comments received from interested parties addressing the nature and use of servers, DOE is withdrawing the Notice. DOE's current approach with regard to the coverage of servers can be found in its updated coverage proposal for computers, published elsewhere in today's Federal Register.

III. Approval of the Office of the Secretary

The Secretary of Energy has approved publication of this withdrawal.

List of Subjects in 10 CFR Part 430

Administrative practice and procedure, Confidential business information, Energy conservation, Household appliances, Imports, Incorporation by reference, Intergovernmental relations, Small businesses.

Issued in Washington, DC, on February 21, 2014.
Kathleen B. Hogan,
Deputy Assistant Secretary of Energy Efficiency, Energy Efficiency and Renewable Energy.

[FR Doc. 2014-04422 Filed 2-27-14; 8:45 am]

BILLING CODE 6450-01-P